SMALL BUSINESS ADMINISTRATION

[Declaration of Disaster #3608; Amendment #2]

State of West Virginia

In accordance with a notice received from the Department of Homeland Security—Federal Emergency Management Agency—effective September 1, 2004, the above numbered declaration is hereby amended to establish the incident period for this disaster as beginning July 22, 2004, and continuing through September 1, 2004.

All other information remains the same, i.e., the deadline for filing applications for physical damage is October 5, 2004, and for economic injury the deadline is May 6, 2005.

(Catalog of Federal Domestic Assistance Program Nos. 59002 and 59008)
Dated: September 8, 2004.
Herbert L. Mitchell,
Associate Administrator for Disaster Assistance.

[FR Doc. 04-20665 Filed 9-13-04; 8:45 am]

BILLING CODE 8025-01-P